ENVIRONMENTAL PROTECTION AGENCY

[FRL-7803-2]

National Drinking Water Advisory Council's Water Security Working Group Meeting Announcement

AGENCY: Environmental Protection Agency.

ACTION: Notice.

SUMMARY: The Environmental Protection Agency (EPA) is hereby announcing a meeting of the Water Security Working Group (WSWG) of the National Drinking Water Advisory Council (NDWAC), established under the Safe Drinking Water Act. The purpose of this meeting is to provide an opportunity for the WSWG members to finalize the working group ground rules, operating procedures, and project plan; to discuss coordination with other on-going efforts; and to begin deliberation on an approach to complete the WSWG charge. The WSWG members are meeting to analyze relevant issues and facts pursuant to the charge to develop recommendations for best security practices and policies for drinking water and wastewater facilities for NDWAC's consideration.

DATES: The first WSWG public meeting will take place on August 31, 2004, from 1:30 p.m. to 4 p.m., Pacific Standard Time (PST) and September 2, 2004, from 8 a.m. to 11 a.m., PST. The meeting on September 1, 2004, from 8 a.m. to 5 p.m., PST, will be closed to the public.

ADDRESSES: The meeting will take place at the Hotel Monaco Seattle, which is located at 1101 4th Avenue, Seattle, Washington 98101.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC 20460. Please contact Marc Santora at santora.marc@epa.gov or call (202) 564-1597 to receive additional details.

SUPPLEMENTARY INFORMATION: The August 31 and September 2, 2004, meeting is open to the public. Statements from the public will be taken if time permits on both days. Oral statements will be limited to five minutes, and it is preferred that only one person present the statement on behalf of a group or organization.

The September 1, 2004, meeting will be closed to the public, as the discussion will involve the disclosure of sensitive information relating to specific water sector vulnerabilities. Since the WSWG, as a working group to the NDWAC, is not a Federal advisory committee, it is not subject to the same public disclosure laws that govern NDWAC, which is a Federal advisory committee. Until the working group agrees on the protocol to be used to close any portion of future meetings, one day of this meeting (September 1, 2004) will only be open to WSWG members, Federal resource personnel, facilitation support contractors, and outside experts identified by the facilitation support contractors.

Any person needing special accommodations at this meeting, including wheelchair access, should contact Marc Santora, Designated Federal Officer, at the number or e-mail under the FOR FURTHER INFORMATION CONTACT section, at least five business days in advance.

Background

The WSWG charge is to: (1) Identify, compile, and characterize best security practices and policies for drinking water and wastewater utilities and provide an approach for considering and adopting these practices and policies at a utility level; (2) consider mechanisms to provide recognition and incentives that facilitate a broad and receptive response among the water sector to implement these best security practices and policies and make recommendations as appropriate; (3) consider mechanisms to measure the extent of implementation of these best security practices and policies, identify the impediments to their implementation, and make recommendations as appropriate.

Dated: August 13, 2004.
Cynthia C. Dougherty,
Director, Office of Ground Water and Drinking Water.

[FR Doc. 04-19006 Filed 8-17-04; 8:45 am]

BILLING CODE 6560-50-P